COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities, and deletes service(s) previously furnished by such agencies.

DATES: Comments must be received on or before: January 16, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

MR 10808—Ice Cream Bowl, Includes Shipper 20808

Designated Source of Supply: Winston-Salem Industries for the Blind, Inc., Winston-Salem, NC

Contracting Activity: Military Resale-Defense Commissary Agency

Mandatory for: The requirements of military commissaries and exchanges in accordance with the 41 CFR 51-6.4

Distribution: C-List

Service(s)

Service Type: Logistics Support Service

Mandatory for: U.S. Coast Guard, Surface Forces Logistics Center, Baltimore, MD

Designated Source of Supply: Chimes District of Columbia, Baltimore, MD

Contracting Activity: U.S. COAST GUARD, SFLC PROCUREMENT BRANCH 3(00040)

Service Type: Custodial Service

Mandatory for: USDA Forest Service, Pacific Northwest Juneau Forestry Sciences Lab, Juneau, AK

Designated Source of Supply: REACH, Inc., Juneau, AK

Contracting Activity: FOREST SERVICE, USDA-FS, CSA NORTHWEST 4

Service Type: Storage, Management and Fulfillment of Personal Protective Equipment Safety Stock

Mandatory for: Department of Homeland Security, Washington, DC

Designated Source of Supply: LC Industries, Inc. in Durham, NC

Contracting Activity: Department of Homeland Security, Departmental Operations Acquisitions Division, Washington, DC.

Note: The proposed service listed immediately above originally appeared on December 10, 2021 but contains a correction to note the Designated Source of Supply. The due date for comments remains on or before January 8, 2022.

Deletions

The following service(s) are proposed for deletion from the Procurement List:

Service(s)

Service Type: Administrative Services

Mandatory for: Internal Revenue Service Mailroom: 1100 Commerce Street, Dallas, TX

Designated Source of Supply: Dallas Lighthouse for the Blind, Inc., Dallas, TX

Contracting Activity: TREASURY, DEPARTMENT OF THE, DEPT OF TREAS/

Service Type: Administrative Services

Mandatory for: Internal Revenue Service Collections Department: 1100 Commerce Street, Dallas, TX

Designated Source of Supply: Dallas Lighthouse for the Blind, Inc., Dallas, TX

Contracting Activity: TREASURY, DEPARTMENT OF THE, DEPT OF TREAS/

Michael R. Jurkowski,
Acting Director, Business Operations.

[FR Doc. 2021-27353 Filed 12-16-21; 8:45 am]

BILLING CODE 6353-01-P